CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is conducting a study of training received by AmeriCorps*VISTA Members and Project Supervisors. This particular submission concerns the collection of information, from AmeriCorps*VISTA Project Supervisors only, as to their perceptions of the efficacy and impact of the training. Copies of the information collection request can be obtained by contacting the office listed below in the ADDRESSES section of this notice.

The Corporation is particularly interested in comments which:

• Evaluate whether the proposed collection of information is necessary for the proper performance of the functions of the Corporation, including whether the information will have practical utility;

• Evaluate the accuracy of the Corporation's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology; e.g., permitting electronic submissions of responses.

DATES: Written comments must be submitted to the office listed in the ADDRESSES section by February 11, 2002.

ADDRESSES: Send comments to the Corporation for National and Community Service, Office of Evaluation, Attn: Carol Hafford, 1201 New York Avenue, NW., Washington, DC, 20525, or chafford@cns.gov.

FOR FURTHER INFORMATION CONTACT: Carol Hafford (202) 606-5000, ext. 232 or chafford@cns.gov.

SUPPLEMENTARY INFORMATION:

I. Background

The AmeriCorps*VISTA program provides training for members and the project supervisors who support members serving in community-based organizations, schools, and state/local agencies, and other institutions. Corporation-sponsored training takes place along a timeline based on when AmeriCorps*VISTA members begin and end their service periods. Training cycles occur five times each year, and each cycle begins with Project Supervisor Training. Project Supervisor Training occurs about three months prior to the time members are scheduled to begin service. This cluster or national-level event lasts about three or four days, and focuses on the information supervisors need to make their AmeriCorps*VISTA experience successful for their organizations as well as the members.

The second training event in the cycle is Pre-Service Orientation (PSO). It is for all new AmeriCorps*VISTA member candidates and takes place immediately prior to the start of service with the sponsoring organization. PSO usually occurs at the cluster or national level and less frequently at the state level. It lasts about three days and is required for all AmeriCorps*VISTA candidates prior to their being sworn in. Major emphases are placed on understanding the mission of AmeriCorps*VISTA and its anti-poverty focus, understanding the role of an AmeriCorps*VISTA member in building sustainable community infrastructure, developing an ethic of service, and learning about AmeriCorps*VISTA rules, procedures, and benefits.

The third training event is On-Site Orientation and Training (OSOT). This event is conducted by the sponsoring organization for its new AmeriCorps*VISTA members. The sponsor is encouraged to involve members of the community as well as the organization's staff in this training, which may last from one to three weeks. The main purposes of OSOT are to orient a new AmeriCorps*VISTA member to his/her role in the project and to the community of service.

For most AmeriCorps*VISTA members, Early Service Training (EST) is their final formal training event during their year of service with the sponsor. EST occurs three to five months into the service period and usually takes place at cluster or national levels. The purposes are to reinforce the prior training and experiences of the AmeriCorps*VISTA members by discussing problems and successes related to project goals and developing needed skills to address these concerns.

The AmeriCorps*VISTA Member and Supervisor Training study seeks to determine members' and supervisors' perceptions of the efficacy of multiple training components in developing the knowledge, skills, and attitudes needed to conduct capacity-building and sustainability activities. The study will also address the perceived impact of training and supervisor support on members' performance, retention, and satisfaction with the service experience.

II. Current Action

The Corporation seeks approval of one survey form that will be used to examine AmeriCorps*VISTA supervisors perceptions about training. This requires information from project supervisors that will address: (1) The extent to which Corporation-sponsored training prepares Supervisors to recruit, retain, and support AmeriCorps*VISTA members; and (2) whether, in their opinion, training provided to AmeriCorps*VISTA members contributes to the members' performance, retention, and satisfaction with the service experience.

Type of Review: New collection.

Agency: Corporation for National and Community Service.

Title: AmeriCorps*VISTA Project Supervisors Survey.

OMB Number: None.

Agency Number: None.

Affected Public: AmeriCorps*VISTA project supervisors at community-based organizations, elementary and secondary schools, state and local agencies.

Total Respondents: Approximately 400.

Frequency: Annual.

Average Time Per Response: 30 minutes.

Estimated Total Burden Hours: 200.

Total Burden Cost (capital/startup): None.

Total Burden Cost (operating/maintenance): None.

Comments submitted in response to this notice will be summarized and/or included in the request for Office of Management and Budget approval of the information collection request; they will also become a matter of public record.

Dated: December 7, 2001.
David B. Rymph,
Acting Director, Department of Evaluation and Effective Practices.

[FR Doc. 01-30767 Filed 12-12-01; 8:45 am]

BILLING CODE 6050-$$-P